SMALL BUSINESS ADMINISTRATION

Future Value Ventures, Inc. License No. 05/05-5198; Notice of Surrender of License

Notice is hereby given that Future Value Ventures, Inc., 2745 N. Martin L. King Drive, Milwaukee, Wisconsin 53212, has surrendered their license to operate as a small business investment company under the Small Business Investment Act of 1958, as amended (the Act). Future Value Ventures, Inc. was licensed by Small Business Administration on November 9, 1984.

Under the authority vested by the Act and pursuant to the Regulations promulgated thereunder, the surrender was accepted on this date, and accordingly, all rights, privileges, and franchises derived therefrom have been terminated.

(Catalog of Federal Domestic Assistance Program No. 59.11, Small Business Investment Companies)

Dated: January 30, 2001.
Harry Haskins,
Acting Associate Administrator for Investment.

[FR Doc. 01-3405 Filed 2-13-01; 8:45 am]

BILLING CODE 8025-01-P